Title 3—

The President

Proclamation 8413 of September 10, 2009

Patriot Day and National Day of Service and Remembrance, 2009

By the President of the United States of America

A Proclamation

Through the twisted steel of the twin towers of the World Trade Center, the scarred walls of the Pentagon, and the smoky wreckage in a field in southwest Pennsylvania, the patriotism and resiliency of the American people shone brightly on September 11, 2001. We stood as one people, united in our common humanity and shared sorrow. We grieved for those who perished and remembered what brought us together as Americans.

Today, we honor the lives we lost 8 years ago. On a bright September day, innocent men, women, and children boarded planes and set off for work as they had so many times before. Unthinkable acts of terrorism brought tragedy, destruction, pain, and loss for people across our Nation and the world.

As we pay tribute to loved ones, friends, fellow citizens, and all who died, we reaffirm our commitment to the ideas and ideals that united Americans in the aftermath of the attacks. We must apprehend all those who perpetrated these heinous crimes, seek justice for those who were killed, and defend against all threats to our national security. We must also recommit ourselves to our founding principles. September 11 reminds us that our fate as individuals is tied to that of our Nation. Our democracy is strengthened when we uphold the freedoms upon which our Nation was built: equality, justice, liberty, and democracy. These values exemplify the patriotism and sacrifice we commemorate today.

In that same spirit of patriotism, I call upon all Americans to join in service and honor the lives we lost, the heroes who responded in our hour of need, and the brave men and women in uniform who continue to protect our country at home and abroad. In April, I was proud to sign the bipartisan Edward M. Kennedy Serve America Act, which recognizes September 11 as a National Day of Service and Remembrance. Originated by the family members of those who lost loved ones on 9/11, the National Day of Service and Remembrance is an opportunity to salute the heroes of 9/11, recapture the spirit of unity and compassion that inspired our Nation following the attacks, and rededicate ourselves to sustained service to our communities.

Throughout the summer, people of all ages and backgrounds came together to lend a helping hand in their communities through United We Serve. As this summer of service draws to an end, we renew the call to engage in meaningful service activities and stay engaged with those projects throughout the year. Working together, we can usher in a new era in which volunteering and service is a way of life for all Americans. Deriving strength from tragedy, we can write the next great chapter in our Nation’s history and ensure that future generations continue to enjoy the promise of America.

By a joint resolution approved December 18, 2001 (Public Law 107-89), the Congress has designated September 11 of each year as Patriot Day, and by Public Law 111-13, approved April 21, 2009, has requested the observance of September 11 as an annually recognized National Day of Service and Remembrance.

NOW, THEREFORE, I, BARACK OBAMA, President of the United States of America, do hereby proclaim September 11, 2009, as Patriot Day and National Day of Service and Remembrance. I call upon all departments, agencies, and instrumentalities of the United States to display the flag of the United States at half-staff on Patriot Day and National Day of Service and Remembrance in honor of the individuals who lost their lives as a result of the terrorist attacks against the United States that occurred on September 11, 2001. I invite the Governors of the United States and the Commonwealth of Puerto Rico and interested organizations and individuals to join in this observance. I call upon the people of the United States to participate in community service in honor of those our Nation lost, to observe this day with other ceremonies and activities, including remembrance services, and to observe a moment of silence beginning at 8:46 a.m. eastern daylight time to honor the innocent victims who perished as a result of the terrorist attacks of September 11, 2001.

IN WITNESS WHEREOF, I have hereunto set my hand this tenth day of September, in the year of our Lord two thousand nine, and of the Independence of the United States of America the two hundred and thirty-fourth.

[FR Doc. E9-22262

Filed 9-11-09; 11:15 am]

Billing code 3195-W9-P